DEPARTMENT OF COMMERCE

National Oceanic and Atmospheric Administration

RIN 0648-XE461

Western Pacific Fishery Management Council; Public Meetings

AGENCY: National Marine Fisheries Service, National Oceanic and Atmospheric Administration, Commerce.

ACTION: Notice of public meetings and hearings.

SUMMARY: The Western Pacific Fishery Management Council (Council) will hold its 126th Scientific and Statistical Committee (SSC) meeting, Fishery Data Collection and Research Committee (FDCRC) and its 170th Council meeting to take actions on fishery management issues in the Western Pacific Region.

DATES: The meetings will be held between June 13 and June 22. For specific times and agendas, see SUPPLEMENTARY INFORMATION.

ADDRESSES: The 126th SSC; FDCRC; Fishery Rights of Indigenous People Standing Committee; Pelagic, International, Enforcement and Vessel Monitoring System (VMS) Standing Committee; and Executive and Budget Standing Committee meetings will be held at the Council office, 1164 Bishop Street, Suite 1400, Honolulu, HI 96813, phone: (808) 522-8220. The 170th Council meeting will be held at the Laniakea YWCA, Fuller Hall, 1040 Richards Street, Honolulu HI 96813, phone: (808) 538-7061. The Fishers Forum will be held at the Pomaika'i Ballrooms at Dole Cannery Iwilei, 735 Iwilei Rd, Honolulu, HI 96817, phone: (808) 369-8600.

FOR FURTHER INFORMATION CONTACT: Contact Kitty M. Simonds, Executive Director, phone: (808) 522-8220.

SUPPLEMENTARY INFORMATION: The 126th SSC meeting will be held between 8:30 a.m. and 5 p.m. on June 13-15, 2017. The FDCRC will be held on June 19, 2017, between 8:30 a.m. and 10:30 a.m. The Fishery Rights of Indigenous People Standing Committee will be held on June 19, 2017, between 10:30 a.m. and 12:30 p.m. The Pelagic, International, Enforcement and VMS Standing Committee will be held on June 19, 2017, between 1 p.m. and 4 p.m. The Executive and Budget Standing Committee will be held on June 19, 2017, from 4 p.m. to 6 p.m. The 170th Council meeting will be held between June 20, 2017, and June 22, 2017, between 8:30 a.m. to 5 p.m. each day. On June 21, 2017, the Council will host a Fishers Forum between 6 p.m. and 9 p.m. In addition to the agenda items listed here, the Council and its advisory bodies will hear recommendations from Council advisors. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for 126th SSC Meeting

Tuesday, June 13, 2017, 8:30 a.m. to 5 p.m.

1. Introductions

2. Approval of Draft Agenda and Assignment of Rapporteurs

3. Status of the 125th SSC Meeting Recommendations

4. Report from the Pacific Islands Fisheries Science Center Director

5. National Standard 2 Briefing

6. Program Planning and Research

A. 2016 Stock Assessment and Fishery Evaluation (SAFE) Report and recommendations

1. Archipelagic Report overview and highlights

2. Pelagic Report overview and highlights

3. Precious corals essential fish habitat (EFH) review and options

4. Non-fishing impacts to EFH review and options

B. Evaluation of 2016 catch to the 2016 Annual Catch Limits (ACLs) (Action Item)

C. Updates on the Ecosystem Component analysis in American Samoa, Marianas and Hawaii

D. Options for fishing regulations in the Northwestern Hawaiian Islands (NWHI) Monument Expansion Area (MEA) (Action Item)

E. Updates to the Council's research priorities

1. Five-Year research priorities

2. Cooperative Research priorities

F. Working group report on the Stock Assessment Improvement Plan updates

G. Discussion on the Best Scientific Information Available policy guidance

H. Public Comment

I. SSC Discussion and Recommendations

7. Insular Fisheries

A. Re-specification of acceptable biological catch for the main Hawaiian island Kona crab fishery (Action item)

B. Public Comment

C. SSC Discussion and Recommendations

Wednesday, June 14, 2017, 8:30 a.m. to 5 p.m.

8. Pelagic Fisheries

A. Potential actions for the American Samoa Large Vessel Prohibited Area (LVPA) (Action item)

B. 2017 Hawaii longline bigeye tuna projections

C. Longline Fisheries

1. American Samoa Longline Report

2. Updates on the development of spatial maps

3. SSC discussion on longline effort redistribution scenarios from monument closure

D. Report on American Samoa LVPA and fisheries statistics

E. International Fisheries

1. Inter-American Tropical Tuna Commission (IATTC) 2016 Stock Assessment

2. Western and Central Pacific Fisheries Commission (WCPFC)

a. Pre-assessment Workshop Summary

3. International Scientific Committee (ISC) 2016 Blue Marlin stock assessment

F. Public Comment

G. SSC Discussion and Recommendations

9. Protected Species

A. Main Hawaiian Islands (MHI) insular false killer whale abundance estimate

B. Seabird Workshop Plan

C. Report of the Protected Species Advisory Committee Meeting

D. Updates on Endangered Species Act (ESA) Consultations

E. Updates on ESA and Marine Mammal Protection Act (MMPA) Actions

F. Public Comment

G. SSC Discussion and Recommendations

Thursday, June 15, 2017, 8:30 a.m. to 5 p.m.

10. Other Business

A. 127th SSC Meeting

B. Updates on the status of the SSC plan

11. Summary of SSC Recommendations to the Council

Agenda for Fishery Data Collection and Research Committee (FDCRC)

Monday, June 19, 2017, 8:30 a.m. to 10:30 a.m.

1. Welcome Remarks

2. Introductions

3. Update on previous FDCRC recommendations

4. Agency reports on fishery data collection improvement efforts

A. Western Pacific Fishery Management Council

B. Pacific Islands Fisheries Science Center

C. Commonwealth of the Northern Mariana Islands—Division of Fish and Wildlife

D. Guam—Division of Aquatic and Wildlife Resources

E. Hawaii—Division of Aquatic Resources

F. American Samoa—Department of Marine and Wildlife Resources

5. Renewal of FDCRC Commitments to improving regional fishery data collection

6. Marine Recreational Information Program Pacific Islands Regional Implementation Plan

7. Data sharing agreements

8. Regional fishery independent data coordination

9. Report on FDCRC-Technical Committee

10. Public Comment

11. Discussions and Recommendations

12. Adjourn

Agenda for the Fishery Rights of Indigenous People Standing Committee

Monday, June 19, 2017, 10:30 a.m. to 12:30 p.m.

1. Introductions

2. Community Development Program and Marine Education Training Funding

3. Report on indigenous fishing rights

4. Options for fishing regulations in the NWHI MEA (Action item)

5. American Samoa LVPA (Action item)

6. Other Indigenous Issues

7. Advisory Group Report and Recommendations

A. Advisory Panels

B. Plan Team

C. Non-Commercial Fisheries Advisory Committee

D. SSC

8. Public comment

9. Discussion and Recommendations

Agenda for the Pelagic, International, Enforcement and VMS Standing Committee

Monday, June 19, 2017, 1:00 p.m. to 4:00 p.m.

Pelagic & International Fisheries

1. 2017 Hawaii longline bigeye tuna catch projection

2. American Samoa LVPA (Action Item)

3. American Samoa longline permit modifications (Action Item)

4. Options for Fishing Regulations in the NWHI MEA (Action Item)

5. Report on Forum Fisheries Committee meeting

6. International Fisheries Meetings

A. WCPFC

B. IATTC

C. ISC Blue Marlin Stock Assessment

7. Other Issues

Enforcement and VMS

8. U.S. Coast Guard Report

9. NOAA Office of Law Enforcement and General Counsel Enforcement Litigation Reports

10. Global Fishing Watch Demonstration

11. Other Issues

12. Advisory Group Report and Recommendations

A. Advisory Panel

B. Pelagic Plan Team

C. Non-Commercial Fisheries Advisory Committee

D. SSC

13. Public Comment

14. Pelagic and International Standing Committee Recommendations

15. Enforcement and VMS Standing Committee Recommendations

Agenda for the Executive and Budget Standing Committee

Monday June 19, 2017, 4 p.m. to 6 p.m.

1. Administrative Report

2. Financial Report

3. Report on the Council Coordination Committee

4. Meetings and Workshops

5. Council Family Changes

6. Standard Operating Practices and Procedures (SOPP) Changes—Legislative Committee

7. Other Issues

8. Public Comment

9. Discussion and Recommendations

Agenda for 170th Council Meeting

Tuesday, June 20, 2017, 8:30 a.m. to 5 p.m.

1. Welcome and Introductions

Tribute to Richard Seman

2. Approval of the 170th Agenda

3. Approval of the 169th Meeting Minutes

4. Executive Director's Report

5. Agency Reports

A. National Marine Fisheries Service

1. Pacific Islands Regional Office

2. Pacific Islands Fisheries Science Center

B. NOAA Office of General Counsel, Pacific Islands Section

C. U.S. State Department

1. UN Oceans Conference

2. UN Marine Biodiversity Beyond National Jurisdictions

D. U.S. Fish and Wildlife Service

E. Enforcement

1. U.S. Coast Guard

2. NOAA Office of Law Enforcement

3. NOAA Office of General Counsel, Enforcement Section

F. Other Items

1. Status of Executive Order 13792 Review

2. Status of Executive Order 13795 Review

G. Enforcement and VMS Standing Committee Recommendations

H. Public Comment

I. Council Discussion and Action

6. Program Planning and Research

A. Update on the Fishery Ecosystem Plan Management Unit Species for Ecosystem Component Analysis

B. 2016 SAFE Report and recommendations

1. Archipelagic Report overview and highlights

2. Pelagic Report overview and highlights

3. Precious Coral EFH review and options

4. Non-fishing impacts to EFH review and options

C. Evaluation of 2016 catch to the 2016 ACLs (Action Item)

D. Options for the Omnibus Refinement of EFH

E. Update on Aquaculture Environmental Impact Statement (EIS)

F. Best Scientific Information Available policy guidance

G. Annual Update to the Council's research priorities

1. Five-Year research priorities

2. Cooperative Research priorities

H. Regional, National and International Outreach & Education

I. Advisory Group Report and Recommendations

1. Advisory Panel

2. Archipelagic Plan Team

3. Pelagic Plan Team

4. Marine Planning and Climate Change Committee

5. Protected Species Advisory Committee

6. Social Science Planning Committee

7. Non-Commercial Fisheries Advisory Committee

8. FDCRC

9. SSC

J. Public Hearing

K. Council Discussion and Action

Tuesday, June 20, 2017, 4:00 p.m.

Public Comment on Non-agenda Items

Wednesday, June 21, 2017, 8:30 a.m.-5 p.m.

7. Protected Species

A. MHI insular false killer whale abundance estimate

B. Seabird Workshop Plan

C. Updates on ESA Consultations

D. Updates on ESA and MMPA Actions

1. False Killer Whale Take Reduction Plan Implementation

2. Other Actions

E. Advisory Group Report and Recommendations

1. Advisory Panel

2. Protected Species Advisory Committee

3. FDCRC

4. SSC

F. Public Comment

G. Council Discussion and Action

8. Pelagic & International Fisheries

A. 2017 Hawaii longline bigeye tuna catch projection

B. American Samoa Annual Longline Fisheries Report

C. American Samoa LVPA (Action Item)

D. American Samoa Longline Permit Modifications (Action Item)

E. Update on scoping and development of Deep-set Longline Programmatic EIS

F. Report on Forum Fisheries Commission meeting

G. International Fisheries Meetings

1. IATTC 2016 Stock Assessments

2. WCPFC

a. Pre-assessment Workshop Summary

3. ISC Blue Marlin Stock Assessment

H. Advisory Group Report and Recommendations

1. Advisory Panel

2. Pelagic Plan Team

3. Marine Planning and Climate Change Committee

4. FDCRC

5. SSC

I. Fishery Rights of Indigenous People Standing Committee Recommendations

J. Pelagic and International Standing Committee Recommendations

K. Public Hearing

L. Council Discussion and Action

9. Mariana Archipelago

A. Guam

1. Isla Informe

2. Legislative Report

3. Enforcement Issues

4. Guam Fishery Council

5. Community Activities and Issues

a. Proposed community plan for Inarajan and Umatac

b. Update on Territorial Science Initiative

c. Update on Manell-Geus Habitat Blueprint

6. Education and Outreach Initiatives

B. Commonwealth of Northern Mariana Islands

1. Arongol Falú/Asunton i Tano

2. Legislative Report

3. Enforcement Issues

4. Community Activities and Issues

5. Education and Outreach Initiatives

C. Update on Marianas Trench Marine National Monument Management Plan and Sanctuary Request

D. Marine Conservation Plans (Action Item)

1. Territory of Guam

2. Commonwealth of Northern Mariana Islands

E. Advisory Group Reports and Recommendations

1. Advisory Panel

2. Non-Commercial Fisheries Advisory Committee

3. FDCRC

4. SSC

F. Fishery Rights of Indigenous People Standing Committee Recommendations

G. Public Hearing

H. Council Discussion and Action

Wednesday, June 21, 2017, 6 p.m. to 9 p.m.,

Fishers Forum—From Boat to Web: Understanding Catch Reporting and Fishery Monitoring

Thursday June 22, 2017, 8:30 a.m. to 5 p.m.

10. Hawaii Archipelago & Pacific Remote Island Areas (PRIA)

A. Moku Pepa

B. Legislative Report

C. Enforcement Issues

D. Community Issues

1. Promise to Paeaina

2. Moomomi Community-based management plan meetings

E. Re-specification of annual catch limits for the main Hawaiian island Kona crab fishery (Action Item)

F. Options for Fishing Regulations in the NWHI MEA (Action Item)

G. Marine Conservation Plan for PRIA and Hawaii (Action Item)

H. Report on MHI Bottomfish Working Group Meeting

I. State of Hawaii Coral Reef Bleaching Management Plan

J. Education and Outreach Initiatives

K. Advisory Group Report and Recommendations

1. Advisory Panel

2. Non-Commercial Fisheries Advisory Committee

3. FDCRC

4. SSC

L. Fishery Rights of Indigenous People Standing Committee Recommendations

M. Pelagic & International Standing Committee Recommendations

N. Public Hearing

O. Council Discussion and Action

11. American Samoa Archipelago

A. Motu Lipoti

B. Fono Report

C. Enforcement Issues

D. Community Activities and Issues

E. Fisheries Development

1. Longline Dock Update

2. Aunu'u Fishermen Development

3. Tutuila and Manu'a Alia Repair

4. Fishermen Training Program and Lending Scheme

5. Working Alia Project

6. Fagatogo Fish Market & Bottomfish Export

7. Manu'a Fishermen Cooperatives

F. Shark Law Revision

G. Education and Outreach

1. AmeriCorps and Kupu Hawaii Climate Change Resilience Internship Program

2. Graduating Scholarship Students Employment

3. Summer Fisheries High School Course

H. Advisory Group Reports and Recommendations

1. Advisory Panel

2. FDCRC

3. SSC

I. Fishery Rights of Indigenous People Standing Committee Recommendations

J. Public Comment

K. Council Discussion and Action

12. Administrative Matters

A. Financial Reports

B. Administrative Reports

C. Update on information inquiries and responses

D. Council Family Changes

1. Marine Planning and Climate Change Committee

2. Advisory Panels

3. Others

E. Report on the annual CCC meeting

F. SOPP Changes

1. Report of the legislative committee

G. Meetings and Workshops

H. Other Business

I. Fishery Rights of Indigenous People Standing Committee Recommendations

J. Executive and Budget Standing Committee Recommendations

K. Public Comment

L. Council Discussion and Action

13. Other Business

Non-emergency issues not contained in this agenda may come before the Council for discussion and formal Council action during its 170th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least five days prior to the meeting date.

Authority: 16 U.S.C. 1801 et seq.

Dated: May 26, 2017.
Tracey L. Thompson,
Acting Deputy Director, Office of Sustainable Fisheries, National Marine Fisheries Service.

[FR Doc. 2017-11283 Filed 5-30-17; 8:45 am]

BILLING CODE 3510-22-P